DEPARTMENT OF ENERGY

10 CFR Part 430

[Docket Number EE-2006-BT-STD-0129]

RIN 1904-AA90

Energy Conservation Program: Energy Conservation Standards for Residential Water Heaters, Direct Heating Equipment, and Pool Heaters

Correction

In rule document 2010-7611 beginning on page 20112 in the issue of Friday, April 16, 2010 make the following correction:

On page 20113, in the third column, in the first full paragraph, in the ninth line, “April 15, 2013” should read “April 16, 2013”.

[FR Doc. C1-2010-7611 Filed 4-26-10; 8:45 am]

BILLING CODE 1505-01-D